DEPARTMENT OF ENERGY

Federal Energy Regulatory Commission

[Docket No. CP22-17-000]

Rio Grande LNG, LLC; Notice of Schedule for the Preparation of an Environmental Assessment for the Proposed Carbon Capture and Sequestration System Amendment

On November 17, 2021, Rio Grande LNG, LLC filed an application in Docket No. CP22-17-000 requesting a Limited Amendment to Rio Grande LNG, LLC's November 22, 2019 Authorization pursuant to Section 3 of the Natural Gas Act. The proposed project is known as the Carbon Capture and Sequestration System Amendment (Project) and would incorporate carbon capture and sequestration (CCS) systems into the site and design of the Rio Grande LNG Terminal, which was previously approved by the Commission on November 22, 2019.

On November 29, 2021, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—May 5, 2023

90-day Federal Authorization Decision Deadline ²—August 3, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project would incorporate CCS systems into the approved site and design of the Rio Grande LNG Terminal in Cameron County, Texas. The proposed CCS facilities consist of the following: flue gas cooling and carbon dioxide absorption, dehydration, and compression equipment; amine regenerator and reboiler; and hot oil system.

Background

On September 2, 2022, the Commission issued a Notice of Scoping Period Requesting Comments on Environmental Issues for the Proposed Carbon Capture and Sequestration System Amendment and Notice of Public Scoping Sessions (Notice of Scoping). The Notice of Scoping was sent to affected landowners; federal, state, and local government agencies; elected officials; environmental and public interest groups; Native American tribes; other interested parties; and local libraries and newspapers. In response to the Notice of Scoping, the Commission received comments from the U.S. Army Corps of Engineers; U.S. Environmental Protection Agency; Texas Governor Greg Abbott; Texas Parks and Wildlife Department; Cameron County; Another Gulf; Friends of the Wildlife Corridor; Save RGV; Sierra Club (including the Lower Rio Grande Valley Group); Rio Grande LNG, LLC; and numerous individuals. The primary issues raised by the commenters related to general opposition to or support for the Project; climate change, air quality, and greenhouse gas emissions; environmental justice; wetlands and water quality; vegetation and wildlife; and impacts related to the Project's non-jurisdictional facilities. All substantive comments will be addressed in the EA.

The U.S. Army Corps of Engineers is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-17), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 2, 2022.
Kimberly D. Bose,
Secretary.

[FR Doc. 2022-26678 Filed 12-7-22; 8:45 am]

BILLING CODE 6717-01-P